DEPARTMENT OF COMMERCE

National Oceanic and Atmospheric Administration

Agency Information Collection Activities; Submission to the Office of Management and Budget (OMB) for Review and Approval; Comment Request; Pacific Coast Groundfish; Salmon Bycatch Minimization Information Collection

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 25, 2023 during a 60-day comment period. This notice allows for an additional 30 days for public comments.

Agency: National Oceanic and Atmospheric Administration, Commerce.

Title: Pacific Coast Groundfish Salmon Bycatch Minimization.

OMB Control Number: 0648-0794.

Form Number(s): None.

Type of Request: Regular submission, extension of a current information collection.

Number of Respondents: 14.

Average Hours per Response: SMP proposal (10 hours), SMP amendment (3 hours), Administrative appeals for disapproved SMP (6 hours), SMP postseason report (8 hours).

Total Annual Burden Hours: 113 burden hours.

Needs and Uses: This request is for extension of a currently approved information collection. On February 23, 2021, NMFS published in the Federal Register a final rule (86 FR 10857) allowing a Pacific whiting sector cooperative or group of vessels to develop a Salmon Mitigation Plan (SMP) to promote reduction in Chinook salmon bycatch. The rule also established that vessels with a NMFS-approved SMP have access to the Chinook salmon bycatch reserve regardless of NMFS implementing other in season measures to minimize salmon bycatch. The associated regulations are found at 50 CFR part 660. OMB approved the collection-of-information requirements contained in the final rule on March 10, 2021, under OMB Control Number 0648-0794 (Pacific Coast Groundfish Salmon Bycatch Minimization).

The public reporting burden for the submission of SMPs and post-season reports includes the time for reviewing instructions, searching existing data sources, gathering and maintaining the data needed, and completing and reviewing the collection of information. NMFS estimates receiving up to six SMP proposals, six SMP post-season reports, and one amended SMP, per year over the next three years. NMFS estimates receiving one administrative appeal for a disapproved SMP over the next three years. Public reporting burden is estimated to average 10 hours per response for the SMP proposal, 3 hours per response for an amended SMP, 6 hours per response for an administrative appeal of a disapproved SMP, and 8 hours per response for the SMP postseason report.

Affected Public: Business or other for-profit organizations; Not-for-profit institutions.

Frequency: Annual.

Respondent's Obligation: Required to Obtain or Retain Benefits.

Legal Authority: 50 CFR 660.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0794.

Sheleen Dumas,
Department PRA Clearance Officer, Office of the Under Secretary for Economic Affairs, Commerce Department.

[FR Doc. 2023-26517 Filed 12-1-23; 8:45 am]

BILLING CODE 3510-22-P